DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing the names of one or more persons that have been removed from the SDN List. Their property and interests in property are no longer blocked, and U.S. persons are no longer generally prohibited from engaging in transactions with them.

DATES: See Supplementary Information section for effective date(s).

FOR FURTHER INFORMATION CONTACT:

OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On December 5, 2019, OFAC determined that the property and interests in property subject to U.S. jurisdiction of the following persons are blocked under the relevant sanctions authority listed below.

Individuals

1. ALVARES, Carlos, Moscow, Russia; DOB 18 May 1971; POB Spain; Gender Male; National ID No. AV176942 (Spain) (individual) [CYBER2] (Linked To: EVIL CORP).

Designated pursuant to section 1(iii)(B) of Executive Order 13694 of April 1, 2015, “Blocking Property of Certain Persons Engaging in Significant Malicious Cyber-Enabled Activities,” as amended by Executive Order 13757 of December 28, 2016, “Taking Additional Steps to Address the National Emergency With Respect to Significant Malicious Cyber-Enabled Activities,” (E.O. 13694, as amended), for having materially assisted, sponsored, or provided financial material or technological support for, or goods or services to or in support of, EVIL CORP, a person whose property and interests in property are blocked pursuant to E.O. 13694, as amended.

2. BASHLIKOV, Aleksei, Moscow, Russia; DOB 18 Mar 1988; POB Russia; Gender Male; Passport 4509592875 (Russia) (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

3. BURKHONOVA, Gulsara, Moscow, Russia; DOB 06 Apr 1977; POB Russia; alt. POB Tajikistan; Gender Female; Passport 9707561379 (Russia) (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

4. GUBERMAN, David, Moscow, Russia; DOB 01 Mar 1971; POB Ukraine; Gender Male; National ID No. 7201105 (Israel) (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

5. MANIDIS, Georgios, Moscow, Russia; DOB 23 Aug 1971; Gender Male; National ID No. AV2752462 (Greece) (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

6. SAFAROV, Azamat, Moscow, Russia; DOB 26 Mar 1990; POB Uzbekistan; Gender Male; National ID No. CE2236830 (Uzbekistan) (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

7. SHEVCHUK, Tatiana, Moscow, Russia; DOB 08 Jan 1970; Gender Female; National ID No. BB299742 (Ukraine) (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

8. ZAMULKO, Ruslan, Moscow, Russia; DOB 25 Jun 1970; POB Ukraine; Gender Male; National ID No. HB698865 (Ukraine) (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

9. GUSEV, Denis Igorevich (Cyrillic: ГУСЕВ, ДЕНИС ИГОРЕВИЧ) (a.k.a. GOTMAN, David; a.k.a. POMOJAC, Marin), Moscow, Russia; DOB 10 Jun 1986; alt. DOB 08 Jul 1977; alt. DOB 07 Oct 1987; POB Moscow, Russia; alt. POB Ceadir-Lunga, Moldova; citizen Russia; Gender Male; Passport 717386212 (Russia); alt. Passport A1167292 (Moldova); alt. Passport 1213007 (Israel) (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

Also designated pursuant to section 1(iii)(C) of E.O. 13694, as amended, for having acted or purported to act for or on behalf of, directly or indirectly, EVIL CORP, a person whose property and interests in property are blocked pursuant to E.O. 13694, as amended.

10. PLOTNITSKIY, Andrey (a.k.a. KOVALSKIY, Andrey Vechislavovich; a.k.a. STREL, Andrey), Moscow, Russia; DOB 25 Jul 1989; Gender Male (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

Also designated pursuant to section 1(iii)(C) of E.O. 13694, as amended, for having acted or purported to act for or on behalf of, directly or indirectly, EVIL CORP, a person whose property and interests in property are blocked pursuant to E.O. 13694, as amended.

11. SLOBODSKOY, Dmitriy Alekseyevich, Russia; DOB 28 Jul 1988; Gender Male; Passport 721007353 (Russia) (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

Also designated pursuant to section 1(iii)(C) of E.O. 13694, as amended, for having acted or purported to act for or on behalf of, directly or indirectly, EVIL CORP, a person whose property and interests in property are blocked pursuant to E.O. 13694, as amended.

12. SLOBODSKOY, Kirill Alekseyevich, Moscow, Russia; DOB 26 Feb 1987; POB Moscow, Russia; nationality Russia; Gender Male; Passport 721025114 (Russia); National ID No. 4508818947 (Russia) (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

Also designated pursuant to section 1(iii)(C) of E.O. 13694, as amended, for having acted or purported to act for or on behalf of, directly or indirectly, EVIL CORP, a person whose property and interests in property are blocked pursuant to E.O. 13694, as amended.

13. SMIRNOV, Dmitriy Konstantinovich, Moscow, Russia; DOB 10 Nov 1987; citizen Russia; Gender Male (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

Also designated pursuant to section 1(iii)(C) of E.O. 13694, as amended, for having acted or purported to act for or on behalf of, directly or indirectly, EVIL CORP, a person whose property and interests in property are blocked pursuant to E.O. 13694, as amended.

14. TUCHKOV, Ivan Dmitriyevich, Russia; DOB 27 Nov 1986; POB Moscow, Russia; Gender Male; Passport 45092006504 (Russia); alt. Passport 753931329 (Russia); VisaNumberID 525867504 (France) (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

Also designated pursuant to section 1(iii)(C) of E.O. 13694, as amended, for having acted or purported to act for or on behalf of, directly or indirectly, EVIL CORP, a person whose property and interests in property are blocked pursuant to E.O. 13694, as amended.

15. TURASHEV, Igor Olegovich (a.k.a. “ENKI”; a.k.a. “NINTUTU”), Russia; DOB 15 Jun 1981; Gender Male (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

Also designated pursuant to section 1(iii)(C) of E.O. 13694, as amended, for having acted or purported to act for or on behalf of, directly or indirectly, EVIL CORP, a person whose property and interests in property are blocked pursuant to E.O. 13694, as amended.

16. YAKUBETS, Maksim Viktorovich (a.k.a. “AQUA”), Moscow, Russia; DOB 20 May 1987; POB Polonnoye, Khmelnitskaya Oblast, Ukraine; citizen Russia; Gender Male; Passport 4509135586 (Russia) (individual) [CYBER2] (Linked To: EVIL CORP; Linked To: FEDERAL SECURITY SERVICE).

Designated pursuant to section 1(iii)(B) of E.O. 13694, as amended, for having materially assisted, sponsored, or provided financial material or technological support for, or goods or services to or in support of, EVIL CORP, a person whose property and interests in property are blocked pursuant to E.O. 13694, as amended.

Also designated pursuant to section 1(iii)(C) of E.O. 13694, as amended, for having acted or purported to act for or on behalf of, directly or indirectly, EVIL CORP, a person whose property and interests in property are blocked pursuant to E.O. 13694, as amended.

Also designated pursuant to section 1(iii)(B) of E.O. 13694, as amended, for having materially assisted, sponsored, or provided financial material or technological support for, or goods or services to or in support of, the FEDERAL SECURITY SERVICE, a person whose property and interests in property are blocked pursuant to E.O. 13694, as amended.

17. YAKUBETS, Artem Viktorovich, Moscow, Russia; DOB 17 Jan 1986; POB Polonnoye, Khmelnitskaya Oblast, Ukraine; citizen Russia; Gender Male (individual) [CYBER2] (Linked To: EVIL CORP).

Designated pursuant to section 1(iii)(B) of E.O. 13694, as amended, for having materially assisted, sponsored, or provided financial material or technological support for, or goods or services to or in support of, EVIL CORP, a person whose property and interests in property are blocked pursuant to E.O. 13694, as amended.

Also designated pursuant to section 1(iii)(C) of E.O. 13694, as amended, for having acted or purported to act for or on behalf of, directly or indirectly, EVIL CORP, a person whose property and interests in property are blocked pursuant to E.O. 13694, as amended.

Entities

1. EVIL CORP (a.k.a. DRIDEX GANG), Moscow, Russia; Moldova [CYBER2].

Designated pursuant to section 1(ii)(D) of E.O. 13694, as amended, for being responsible for or complicit in, or to have engaged in, directly or indirectly, cyber-enabled activities originating from, or directed by persons located, in whole or substantial part, outside of the United States that are reasonably likely to result in, or have materially contributed to, a significant threat to the national security, foreign policy, or economic health or financial stability of the United States and that have the purpose or effect of causing a significant misappropriation of funds or economic resources, trade secrets, personal identifiers, or financial information for commercial or competitive advantage or private financial gain.

2. BIZNES-STOLITSA, OOO (Cyrillic: ООО БИЗНЕС-СТОЛИЦА) (a.k.a. OBSHCHESTVO S OGRANICHENNOI OTVETSTVENNOSTYU BIZNES-STOLITSA), d. 14 korp. 1 pom. Khll/kom. 1, ul., Sokolovo-Meshcherskaya Moscow, Moscow 125466, Russia; D-U-N-S Number 50-722-4994; Tax ID No. 7733904024 (Russia); Government Gazette Number 40335667 (Russia); Registration Number 5147746417682 (Russia) [CYBER2] (Linked To: GUSEV, Denis Igorevich).

Designated pursuant to section 1(iii)(C) of E.O. 13694, as amended, for being owned or controlled by DENIS IGOREVICH GUSEV, a person whose property and interests in property are blocked pursuant to E.O. 13694, as amended.

3. OPTIMA, OOO (Cyrillic: ООО ОПТИМА) (a.k.a. OBSHCHESTVO S OGRANICHENNOI OTVETSTVENNOSTYU OPTIMA), d. 2 korp. 2 pom. 1, ul., Kominterna Moscow, Moscow 129344, Russia; D-U-N-S Number 50-579-8144; Tax ID No. 7716740680 (Russia); Government Gazette Number 17325717 (Russia); Registration Number 1137746232260 (Russia) [CYBER2] (Linked To: GUSEV, Denis Igorevich).

Designated pursuant to section 1(iii)(C) of E.O. 13694, as amended, for being owned or controlled by DENIS IGOREVICH GUSEV, a person whose property and interests in property are blocked pursuant to E.O. 13694, as amended.

4. TREID-INVEST, OOO (Cyrillic: ООО ТРЕЙД-ИНВЕСТ) (a.k.a. OBSHCHESTVO S OGRANICHENNOI OTVETSTVENNOSTYU TREID-INVEST), 11/2, ul., Sadovaya-Chernogryazskaya Moscow, Moscow 105064, Russia; D-U-N-S Number 50-722-5114; Tax ID No. 7701416320 (Russia); Government Gazette Number 40214946 (Russia); Registration Number 5147746418782 (Russia) [CYBER2] (Linked To: GUSEV, Denis Igorevich).

Designated pursuant to section 1(iii)(C) of E.O. 13694, as amended, for being owned or controlled by DENIS IGOREVICH GUSEV, a person whose property and interests in property are blocked pursuant to E.O. 13694, as amended.

5. TSAO, OOO (Cyrillic: ООО ЦАО) (a.k.a. OBSHCHESTVO S OGRANICHENNOI OTVETSTVENNOSTYU TSENTR AVTOOBSLUZHIVANIYA), 9, per., Omski Kurgan, Kurganskaya Oblast 640000, Russia; D-U-N-S Number 68-215-4722; Tax ID No. 4501122896 (Russia); Government Gazette Number 78739479 (Russia); Registration Number 1064501172394 (Russia) [CYBER2] (Linked To: GUSEV, Denis Igorevich).

Designated pursuant to section 1(iii)(C) of E.O. 13694, as amended, for being owned or controlled by DENIS IGOREVICH GUSEV, a person whose property and interests in property are blocked pursuant to E.O. 13694, as amended.

6. VERTIKAL, OOO (Cyrillic: ООО ВЕРТИКАЛЬ) (a.k.a. OBSHCHESTVO S OGRANICHENNOI OTVETSTVENNOSTYU VERTIKAL), d. 102/1, ul. Beregovaya Kogalym, Khanty-Mansiski, Avtonomny Okrug—Yugra Okr. 628482, Russia; D-U-N-S Number 50-630-4726; Tax ID No. 8608056026 (Russia); Government Gazette Number 26149774 (Russia); Registration Number 1138608000189 (Russia) [CYBER2] (Linked To: GUSEV, Denis Igorevich).

Designated pursuant to section 1(iii)(C) of E.O. 13694, as amended, for being owned or controlled by DENIS IGOREVICH GUSEV, a person whose property and interests in property are blocked pursuant to E.O. 13694, as amended.

7. YUNIKOM, OOO (Cyrillic: ООО ЮНИКОМ) (a.k.a. OBSHCHESTVO S OGRANICHENNOI OTVETSTVENNOSTYU YUNIKOM), d. 18, ul. Tsentralnaya Kogalym, Khanty-Mansiski, Avtonomny Okrug—Yugra Okr. 628483, Russia; D-U-N-S Number 68-321-9795; Tax ID No. 8608052180 (Russia); Government Gazette Number 97396163 (Russia); Registration Number 1068608008204 (Russia) [CYBER2] (Linked To: GUSEV, Denis Igorevich).

Designated pursuant to section 1(iii)(C) of E.O. 13694, as amended, for being owned or controlled by DENIS IGOREVICH GUSEV, a person whose property and interests in property are blocked pursuant to E.O. 13694, as amended.

On December 5, 2019, OFAC determined that the property and interests in property subject to U.S. jurisdiction of the following person are unblocked, and removed this person from the SDN List.

Individual

1. AMHAZ, Issam Mohamad (a.k.a. AMHAZ, 'Isam; a.k.a. AMHAZ, Issam Mohamed), Ghadir, 5th Floor, Safarat, Bir Hassan, Jenah, Lebanon; Issam Mohamad Amhaz Property, Ambassades (Safarate), Bir Hassan Area, Ghobeiri, Baabda, Lebanon; DOB 04 Mar 1967; POB Baalbek, Lebanon; nationality Lebanon; Additional Sanctions Information—Subject to Secondary Sanctions Pursuant to the Hizballah Financial Sanctions Regulations; Passport RL0000199 (Lebanon); Identification Number 61 Nabha; Chairman, Stars Group Holding; General Manager, Teleserveplus (individual) [SDGT].

Dated: December 5, 2019.
Andrea Gacki,
Director, Office of Foreign Assets Control.

[FR Doc. 2019-26612 Filed 12-10-19; 8:45 am]

BILLING CODE 4810-AL-P